DEPARTMENT OF THE INTERIOR

National Park Service

National Register of Historic Places; Notification of Pending Nominations

Nominations for the following properties being considered for listing in the National Register were received by the National Park Service before July 20, 2002. Pursuant to § 60.13 of 36 CFR Part 60 written comments concerning the significance of these properties under the National Register criteria for evaluation may be forwarded by United States Postal Service, to the National Register Historic Places, National Park Service, 1849 C St. NW, NC400, Washington, DC 20240; by all other carriers, National Register of Historic Places, National Park Service, 800 N. Capitol St., NW, Suite 400, Washington DC 20002; or by fax, 202-343-1836. Written or faxed comments should be submitted by August 27, 2002.

Carol D. Shull,
Keeper of the National Register of Historic Places.

Illinois

Lake County:

Adler, Mrs. Isaac D., House, 1480 N. Milwaukee Ave., Libertyville, 02000901

Massachusetts

Barnstable County:

Jarves, John and Mary Waterman, House, 3 Jarves St., Sandwich, 02000903

Berkshire County:

Northeast School, 981 Summit Rd., Richmond, 02000902

Hampshire County:

Our Mother of Sorrows Monastery and Retreat Center, 110 Monastery Ave., West Springfield, 02000904

Missouri

Newton County:

Neosho High School, (Neosho MPS), W. McCord and N. Wood Sts., Neosho, 02000906

St. Louis County:

J. Milton Turner School, 238 Meacham Ave., and 245 Saratoga Ave., Kirkwood, 02000905

Texas

Hidalgo County:

Mission Canal Company Second Lift Pumphouse, (Mission, Hidalgo County: MPS), 6th St. and Canal, Mission, 02000910

Mission Citrus Growers Union Packing Shed, (Mission, Hidalgo County: MPS), 824 W. Business TX 83, Mission, 02000911

Roosevelt School Auditorium and Classroom Addition, (Mission, Hidalgo County: MPS), 407 E. 3rd St., Mission, 02000909

Shary, John, Building, (Mission, Hidalgo County: MPS), 900 Doherty, Mission, 02000907

Teatro La Paz, (Mission, Hidalgo County: MPS), 514, 516, 518 Doherty, Mission, 02000908

A request for REMOVAL has been received for the following resources:

Colorado

El Paso County:

Cragmor Sanatorium 1420 Austin Bluffs Pkwy, Colorado Springs, 98000586

Fremont County:

Howard Bridge, (Vehicular Bridges in Colorado TR),

Off US 50, Howard, 85000209

Las Animas:

Avery Bridges (Vehicular Bridges in Colorado TR), Cty. Rd. Over Leitensdorfer Arroyo and Apishapa River, Hoehne and Aguilar vicinity, 85001403

Elson Bridge, (Vehicular Bridges in Colorado TR), Cty. Rd. 36, El Moro vicinity, 85000215

[FR Doc. 02-20375 Filed 8-9-02; 8:45 am]

BILLING CODE 4310-70-P